ENVIRONMENTAL PROTECTION AGENCY

40 CFR Part 81

[KY 116; KY 119-200214(c); FRL-7166-5]

Approval and Promulgation of Air Quality Implementation Plans; Kentucky; Withdrawal of Direct Final Rule

AGENCY: Environmental Protection Agency (EPA).

ACTION: Withdrawal of direct final rule.

SUMMARY: On February 12, 2002 (67 FR 6411), EPA published a direct final approval of a revision to the Kentucky State Implementation Plan (SIP) which pertained to the Kentucky portion of the Cincinnati-Hamilton non-attainment area. The direct final action was published without prior proposal because EPA anticipated no adverse comment. EPA stated in the direct final rule that if EPA received adverse comment by March 14, 2002, EPA would publish a timely withdrawal in the Federal Register. EPA subsequently received adverse comments on the direct final rule. Therefore, EPA is withdrawing the direct final approval. EPA will address the comments in a subsequent final action based on the parallel proposal also published on February 12, 2002 (67 FR 6459). As stated in the parallel proposal, EPA will not institute a second comment period on this action.

EFFECTIVE DATE: The direct final rule published on February 12, 2002, is withdrawn as of April 8, 2002.

FOR FURTHER INFORMATION CONTACT: Randy Terry at (404) 562-9032, or by electronic mail at Terry.randy@epa.gov.

List of Subjects in 40 CFR Part 81

Environmental protection, Air pollution control, Intergovernmental relations, Ozone, Particulate matter, Reporting and recordkeeping requirements.

Dated: March 21, 2002.
Michael V. Peyton,
Acting Regional Administrator, Region 4.

[FR Doc. 02-7938 Filed 4-5-02; 8:45 am]

BILLING CODE 6560-50-P